FEDERAL RESERVE SYSTEM

Change in Bank Control Notices; Acquisition of Shares of Bank or bank Holding Companies; Correction

This notice corrects a notice (FR Doc. 02-32976) published on page 79931 of the issue for Tuesday, December 31, 2002.

Under the Federal Reserve Bank of Chicago heading, the entry for Antonia Whalen, Clementine Whalen and Nathaniel Whalen, all of Chicago, Illinois, and Amanda Whalen, Portland, Oregon, acting in concert with their parents, Wayne W. Whalen and Paula Wolff, Chicago, Illinois, is revised to read as follows:

A. Federal Reserve Bank of Chicago (Phillip Jackson, Applications Officer) 230 South LaSalle Street, Chicago, Illinois 60690-1414:

1. WPW Associates, L.P., Chicago, Illinois, and Antonia Whalen, Clementine Whalen and Nathaniel Whalen, all of Chicago, Illinois, and Amanda Whalen, Portland, Oregon, acting in concert with their parents, Wayne W. Whalen and Paula Wolff, Chicago, Illinois; all to retain ownership of the outstanding shares of Unionbancorp, Inc., Ottawa, Illinois, and thereby indirectly retain voting shares of Unionbank, Streator, Illinois; Unionbank/Central, Princeton, Illinois; Unionbank/West, Macomb, Illinois, and Unionbank/Northwest, Hanover, Illinois.

Comments on this application must be received by January 15, 2003.

Board of Governors of the Federal Reserve System, January 6, 2003.
Robert deV. Frierson,
Deputy Secretary of the Board.

[FR Doc. 03-448 Filed 1-9-03; 8:45 am]

BILLING CODE 6210-01-S